DEPARTMENT OF EDUCATION

Federal Commission on School Safety; Listening Sessions

AGENCY: Office of the Deputy Secretary, Department of Education.

ACTION: Notification of listening session.

SUMMARY: The Department of Education (Department) is hosting listening sessions to gather information from the public on how schools, districts, institutions of higher education, and other local and State government agencies can improve school safety. In this notice, we announce the details of a listening session on June 6, 2018, at which interested parties may provide input.

DATES: The listening sessions will be held from 9:30 a.m. to 4:30 p.m., local time on June 6, 2018.

FOR FURTHER INFORMATION CONTACT: Monica Bates, U.S. Department of Education, 400 Maryland Ave. SW, Information Resource Center, Washington, DC 20202. Telephone: 800-USA-LEARN. Email: safety@ed.gov.

If you use a telecommunications device for the deaf (TDD) or text telephone (TTY), call the Federal Relay Service (FRS), toll free, at 1-800-877-8339.

SUPPLEMENTARY INFORMATION: On March 12, 2018, in the wake of the shooting at Marjory Stoneman Douglas High School in Parkland, Florida, President Donald Trump announced his intent to establish a Federal Commission on School Safety (Commission). The Commission has been charged with quickly providing meaningful and actionable recommendations and best practices to keep students safe at school. The Commission is comprised of department heads whose agencies have jurisdiction over key school safety issues: Secretary of Education Betsy DeVos (Commission Chair), Attorney General Jeff Sessions, Secretary of Health and Human Services Alex Azar II, and Secretary of Homeland Security Kirstjen Nielsen.

The members of the Commission are gathering information from students, parents, teachers, school safety personnel, administrators, law enforcement officials, mental health professionals, school counselors, security professionals, and others.

On March 28, 2018, the Commission held an organizational meeting to begin planning its work, and decided to host a series of meetings, site visits, and listening sessions over the next several months. Formal Commission meetings will provide a forum for presentations from subject matter experts, individuals affected by school violence, and other key stakeholders. Field visits will involve travel to schools and other sites to observe and learn first-hand about current best practices in school safety. Listening sessions will occur in several regions of the country and provide an opportunity for the general public to be heard and provide recommendations to the Commission.

Commission Chair Betsy DeVos hosted a meeting and discussion on May 17, 2018, to learn from survivors and family members affected by the mass shootings at Columbine High School, Virginia Tech University, Sandy Hook Elementary School, and Marjory Stoneman Douglas High School, in addition to authors of official reports following incidents of school violence.

The first field visit occurred on May 31, 2018, at Frank Hebron-Harman Elementary School in Hanover, MD. Commission members and their representatives heard from administrators, principals, teachers, students, and a national expert about Positive Behavioral Interventions and Supports (PBIS), a framework designed to improve social, emotional, and academic outcomes for all students.

Generally, as the Commission gathers information, it will focus on different aspects of school safety, including the prevention of school violence, the protection of students and teachers, and the mitigation of threats of school violence.

The information received will inform the Commission's recommendations and best practices final report. Further information on meetings, site visits, and listening sessions will be posted on the Commission's website which will be hosted on the Department's website. This notice provides information about the first of four listening sessions.

Listening Sessions

The Commission will hold four listening sessions. The first will take place on June 6, 2018, at the Lyndon Baines Johnson Building (U.S. Department of Education Headquarters), Barnard Auditorium, 400 Maryland Avenue SW, Washington, DC 20202. The other three listening sessions will be held in other regions of the country, with dates and locations to be determined. See www.ed.gov for further details.

The listening sessions will be held from 9:30 a.m. to 4:30 p.m., local time.

Individuals who would like to either speak or listen/observe at the listening sessions must register at the following link: http://www.cvent.com/d/qgqw2w/4W. If you need reasonable accommodations, you will be able to identify those when registering. Speakers will be assigned slots within two blocks of time: Morning session (9:30 a.m.-12:30 p.m.) and Afternoon session (1:30 p.m.-4:30 p.m.). We will attempt to accommodate each speaker's preference, but, if we are unable to do so, we will make the determination on a first-come, first-served basis, based on the time and date the registration was received. At least 24 hours prior to the meeting, we will notify you by email of your scheduled speaking session and the required time of arrival. Each speaker will be limited to five minutes. An individual may make no more than one presentation at the listening session. If we receive more registrations than we are able to accommodate, the Commission reserves the right to rescind the registration of an entity or individual that is affiliated with an entity or individual that is already scheduled to speak, and to select among registrants to ensure that a broad range of entities and individuals presents comments. The Commission will accept walk-in registrations for speaking or listening/observing on a first-come, first-served basis, starting at 9:45 a.m. for the morning session and 1:45 p.m. for the afternoon session until capacity is reached. Those who have pre-registered will be given priority over a walk-in registration. For those who would like to submit written comments, please submit them to safety@ed.gov. You may also submit them in person at the Department's on-site registration table. Please limit comments to 50 pages.

The Commission will post transcripts of the listening sessions to www.ed.gov. The Commission will live-stream the listening session on June 6, 2018 at the following link: https://edstream.ed.gov/webcast/Play/522e37827d7a4f69a3126f428ba7bba81d.

Accessible Format: Individuals with disabilities can obtain this document in an accessible format (e.g., Braille, large print, audiotape, or compact disc) or register to present comments by contacting the person listed under FOR FURTHER INFORMATION CONTACT.

Electronic Access to This Document: The official version of this document is the document published in the Federal Register. You may access the official edition of the Federal Register and the Code of Federal Regulations via the Federal Digital System at: www.gpo.gov/fdsys. At this site you can view this document, as well as all other documents of this Department published in the Federal Register, in text or Portable Document Format (PDF). To use PDF you must have Adobe Acrobat Reader, which is available free at the site. You may also access documents of the Department published in the Federal Register by using the article search feature at: www.federalregister.gov. Specifically, through the advanced search feature at this site, you can limit your search to documents published by the Department.

Dated: June 1, 2018.
Mitchell Zais,
Deputy Secretary.

[FR Doc. 2018-12171 Filed 6-4-18; 8:45 am]

BILLING CODE 4000-01-P